ENVIRONMENTAL PROTECTION AGENCY

40 CFR Parts 403 and 441

[EPA-HQ-OW-2014-0693; FRL-9920-66-OW]

RIN 2040-AF26

Effluent Limitations Guidelines and Standards for the Dental Category; Extension of Comment Period

AGENCY: Environmental Protection Agency (EPA).

ACTION: Proposed rule; extension of comment period.

SUMMARY: EPA received requests for an extension of the period for providing comments on the proposed rule entitled, “Effluent Limitations Guidelines and Standards for the Dental Category,” published in the Federal Register on October 22, 2014. EPA is extending the comment period from December 22, 2014 to February 20, 2015.

DATES: Comments. The public comment period for the proposed rule published October 22, 2014 (79 FR 63258) is being extended to February 20, 2015, in order to provide the public additional time to submit comments and supporting information.

ADDRESSES: Comments. Written comments on the proposed rule may be submitted to the EPA electronically, by mail, by facsimile or through hand delivery/courier. Please refer to the proposal (79 FR 63258) for the addresses and detailed instructions.

Docket. Publically available documents relevant to this action are available for public inspection either electronically at http://www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is 202-566-1744, and the telephone number for the Water Docket is 202-566-2426. The EPA has established the official public docket no. EPA-HQ-OW-2014-0693.

FOR FURTHER INFORMATION CONTACT: Damon Highsmith, Engineering and Analysis Division (4303T), Office of Water, Environmental Protection Agency, 1200 Pennsylvania Ave. NW., Washington, DC 20460-0001; telephone: 202-566-2504; email: highsmith.damon@epa.gov.

List of Subjects in 40 CFR Parts 403 and 441

Environmental protection, Dental, Dental office, Dentist, Mercury, Pretreatment, Waste treatment and disposal, Water pollution control.

Dated: December 12, 2014.
Kenneth J. Kopocis,
Deputy Assistant Administrator, Office of Water.

[FR Doc. 2014-29774 Filed 12-18-14; 8:45 am]

BILLING CODE 6560-50-P